DEPARTMENT OF LABOR

Employment and Training Administration

[TA-W-54,597]

Panacea Products Inc., Dallas, NC; Notice of Termination of Investigation

Pursuant to section 221 of the Trade Act of 1974, as amended, an investigation was initiated on March 26, 2004, in response to a petition filed by a company official on behalf of workers at Panacea Products Inc, Dallas, North Carolina.

The petitioner has requested that the petition be withdrawn. Consequently, the investigation has been terminated.

Signed at Washington, DC, this 14th day of May, 2004.
Linda G. Poole,
Certifying Officer, Division of Trade Adjustment Assistance.

[FR Doc. 04-12637 Filed 6-3-04; 8:45 am]

BILLING CODE 4510-30-P